DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 30, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: County Committee Election.

OMB Control Number: 0560-0229.

Summary of Collection: This information collection is necessary to effectively allow farmers and ranchers to nominate potential candidates using the form FSA-669A for the FSA county committee election in accordance with the requirements as authorized by the Soil Conservation and Domestic Allotment Act, as amended. Specifically, FSA uses the information provided by the nominee annually or, if needed, throughout the year for special elections to create ballots for FSA county committee elections. Elections for FSA county committees are held each year; therefore, nominations for eligible nominees are requested each year. Any individual who meets the qualifications mentioned in form FSA-669A may be nominated by another person or by themselves. The form FSA-669A is used to collect the information for nominations; it requires the name and address of the nominee and the signatures of both the nominee and the person nominating the individual to be a nominee (only one signature is required for self-nominated individuals). Nominee must be eligible to vote in the designated FSA county committee election, eligible to hold the office of FSA county committee member, and willing to serve, if elected. For more information about FSA county committees, including elections, nominations, eligible voters, eligibility, and other related information, see the regulations in 7 CFR part 7. In addition, the form also includes a voluntary request for race, ethnicity, and gender information from the nominee. FSA is also using the form FSA-669A-3, Nomination Form for Urban Agriculture FSA Committee Election, to establish Urban Agriculture FSA County Committees in some cities. Completion of the form is voluntary.

Need and Use of the Information: FSA will collect information on race, ethnicity and gender of each nominee as provided through the voluntary self-identification of each nominee agreeing to run for a position. The information will be sent to FSA (Kansas City) for preparation of the upcoming election. FSA will review the information annually. If the information is not collected in any given year, FSA would not be able to prepare the report as required by the regulations.

Description of Respondents: Individuals or households.

Number of Respondents: 10,500.

Frequency of Responses: Reporting: Annually.

Total Burden Hours: 2,625.

Rachelle Ragland-Greene,
Acting Departmental Information Collection Clearance Officer.

[FR Doc. 2024-09241 Filed 4-29-24; 8:45 am]

BILLING CODE 3410-05-P